FARM CREDIT ADMINISTRATION

12 CFR Part 652

RIN 3052-AD51

Federal Agricultural Mortgage Corporation Funding and Fiscal Affairs; Risk-Based Capital Requirements

AGENCY: Farm Credit Administration.

ACTION: Advanced notice of proposed rulemaking; extension of comment period.

SUMMARY: The Farm Credit Administration (FCA) Board extends the comment period on the Advanced Notice of Proposed Rulemaking (ANPRM) seeking public comment on whether and how FCA should amend and strengthen the regulatory capital framework for the Federal Agricultural Mortgage Corporation (Farmer Mac or Corporation), so that interested parties will have additional time to provide comments.

DATES: You may send comments on the ANPRM on or before April 26, 2023.

ADDRESSES: For accuracy and efficiency reasons, FCA encourages commenters to submit comments by email or through the FCA's website. As facsimiles (fax) are difficult to process and achieve compliance with section 508 of the Rehabilitation Act, comments submitted by fax are not accepted. Regardless of the method used, please do not submit comments multiple times via different methods. Comments may be submitted by any of the following methods:

• Email: Send an email to reg-comm@fca.gov.

• FCA website: http://www.fca.gov. Click inside the “I want to . . .” field near the top of the page; select “comment on a pending regulation” from the dropdown menu; and click “Go.” This takes you to an electronic public comment form.

• Mail: Joseph T. Connor, Acting Director, Office of Secondary Market Oversight, Farm Credit Administration, 1501 Farm Credit Drive, McLean, VA 22102-5090.

FCA posts all comments on the FCA website. FCA shows comments as submitted, including any supporting data provided, but for technical reasons may omit items such as logos and special characters. Identifying information that you provide, such as phone numbers and addresses, will be publicly available. However, FCA will attempt to remove email addresses to help reduce internet spam.

Copies of all comments received may be reviewed on the FCA website at http://www.fca.gov. Once on the website, click inside the “I want to . . .” field near the top of the page; select “find comments on a pending regulation” from the dropdown menu; and click “Go.” This will take you to the Comment Letters page where you can select the regulation for which you would like to read the public comments. You may also review comments at the FCA office in McLean, Virginia. Please call us at (703) 883-4056 or email us at reg-comm@fca.gov to make an appointment.

FOR FURTHER INFORMATION CONTACT: Joseph T. Connor, connorj@fca.gov, Acting Director, Office of Secondary Market Oversight, Farm Credit Administration, McLean, VA 22102-5090, (703) 883-4280, TTY (703) 883-4056, or Andra Grossman, grossmana@fca.gov, Attorney Advisor, or Jennifer Cohn, cohnj@fca.gov, Assistant General Counsel, Office of the General Counsel, Farm Credit Administration, McLean, VA 22102-5090, (703) 883-4020, TTY (703) 883-4056.

SUPPLEMENTARY INFORMATION: On January 24, 2023, FCA published an ANPRM in the Federal Register seeking comments from the public on whether and how to amend and strengthen the regulatory capital framework in furtherance of Farmer Mac's safe and sound operations and its role in promoting affordable and sustainable access to credit in agricultural and rural communities. The comment period is scheduled to expire on March 27, 2023. The Farm Credit Council, on behalf of Farm Credit System banks and associations, has requested more time for comments to be submitted and specifically asked for an additional 30 days. In response to this request, FCA is extending the comment period for an additional 30 days. The FCA supports public involvement and participation in its regulatory process and invites all interested parties to review and provide comments on the proposed rule.

Authority: Secs. 4.12, 5.9, 5.17, 8.11, 8.31, 8.32, 8.33, 8.34, 8.35, 8.36, 8.37, 8.41 of the Farm Credit Act (12 U.S.C. 2183, 2243, 2252, 2279aa-11, 2279bb, 2279bb-1, 2279bb-2, 2279bb-3, 2279bb-4, 2279bb-5, 2279bb-6, 2279cc); sec. 514 of Pub. L. 102-552, 106 Stat. 4102; sec. 118 of Pub. L. 104-105, 110 Stat. 168; sec. 939A of Pub. L. 111-203, 124 Stat. 1326, 1887 (15 U.S.C. 78o-7 note) (July 21, 2010).

Dated: January 22, 2023.
Ashley Waldron,
Secretary, Farm Credit Administration Board.

[FR Doc. 2023-06239 Filed 3-24-23; 8:45 am]

BILLING CODE 6705-01-P